DEPARTMENT OF ENERGY

Federal Energy Regulatory Commission

[Docket No. IC17-3-000]

Commission Information Collection Activities (Ferc-603); Comment Request; Extension

AGENCY: Federal Energy Regulatory Commission, Department of Energy.

ACTION: Notice of information collection and request for comments.

SUMMARY: In compliance with the requirements of the Paperwork Reduction Act of 1995, 44 U.S.C. 3506(c)(2)(A), the Federal Energy Regulatory Commission (Commission or FERC) is soliciting public comment on the currently approved information collection, FERC-603, Critical Energy/Electric Infrastructure Information (CEII) Request.

DATES: Comments on the collection of information are due March 31, 2017.

ADDRESSES: You may submit comments (identified by Docket No. IC17-3-000) by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC-603, Critical Energy/Electric Infrastructure Information (CEII) Request.

OMB Control No.: 1902-0197.

Type of Request: Three-year extension of the FERC-603 information collection requirements with no changes to the current reporting requirements.

Abstract: This collection is used by the Commission to implement procedures for individuals with a valid or legitimate need for access to Critical Energy/Electric Infrastructure Information (CEII), which is exempt from disclosure under the Freedom of Information Act (5 U.S.C. 552), subject to a non-disclosure agreement.

On February, 21, 2003, the Commission issued Order No. 630 (66 FR 52917) to address the appropriate treatment of CEII in the aftermath of the September 11, 2001 terrorist attacks and to restrict access due to the ongoing terrorism threat. Given that such information would typically be exempt from mandatory disclosure pursuant to FOIA, the Commission determined that it was important to have a process for individuals with a valid or legitimate need to access certain sensitive energy infrastructure information. As such, the Commission's CEII process is designed to limit the distribution of sensitive infrastructure information to those individuals with a need to know in order to avoid having sensitive information fall into the hands of those who may use it to attack the Nation's infrastructure.¹ This collection was prepared as part of the implementation of the CEII request process.

¹ The Commission defined CEII to include information about “existing or proposed critical infrastructure that: (i) Relates to the production, generation, transportation, transmission, or distribution of energy; (ii) could be useful to a person planning an attack on critical infrastructure; (iii) is exempt from mandatory disclosure under the Freedom of Information Act, and (iv) does not simply give the location of the critical infrastructure. Critical infrastructure means existing and proposed systems and assets, whether physical or virtual, the incapacity or destruction of which would negatively affect security, economic security, public health or safety, or any combination of those matters.

On December 4, 2015, the President signed the Fixing America's Surface Transportation Act (FAST Act) into law, which directed the Commission to issue regulations aimed at securing and sharing sensitive infrastructure information.² On November 17, 2016, in Order No. 833 (in Docket No. RM16-15), the Commission adopted a Final Rule implementing the FAST Act by amending its regulations that pertain to the designation, protection, and sharing of Critical Energy/Electric Infrastructure Information (CEII). The Final Rule will be effective on February 19, 2017.³

² Fixing America's Surface Transportation Act, Public Law 114-94, 61,003, 129 Stat. 1312, 1773-1779 (2015) (to be codified at 16 U.S.C. 824 et seq.) (FAST Act).

³ Because the Final Rule is not yet effective, the sample CEII Request Form attached to this notice does not appear on the FERC Web site and will not be published in the Federal Register. The sample CEII Request Form will be posted with this Notice in Docket No. IC17-3 in eLibrary.

FERC-603, Critical Energy/Electric Infrastructure Information (CEII) request form is largely unchanged from the previously approved version. As in the previous version, a person seeking access to CEII must file a request for that information by providing information about their identity and the reason the individual needs the information. With that information, the Commission is able to assess the requester's need for the information against the sensitivity of the information. When Order No. 833 becomes effective, the form will be updated to refer to CEII as Critical Energy/Electric Infrastructure Information (CEII) as opposed to Critical Energy Infrastructure Information (CEII).⁴ The form will also be updated to provide clarification about the statement of need that CEII requesters must provide by referring individuals to the regulations.⁵ Compliance with these requirements is mandatory. A sample updated CEII request form is attached to this notice.

⁴ Section 215A(a)(3) of the FAST Act defined Critical Electric Infrastructure Information to include information that qualifies as critical energy infrastructure information under the Commission's regulations. The Commission therefore defined the term “Critical Electric Infrastructure Information” to include “Critical Energy Infrastructure Information” as defined under the Commission's existing regulations and determined to refer to both types of information, collectively, as CEII.

⁵ Specifically, 18 CFR 388.113(g)(5)(i)(b) states that a Statement of Need must include: The extent to which a particular function is dependent upon access to the information; why the function cannot be achieved or performed without access to the information; an explanation of whether other information is available to the requester that could facilitate the same objective; how long the information will be needed; whether or not the information is needed to participate in a specific proceeding (with that proceeding identified); and an explanation of whether the information is needed expeditiously.

Type of Respondents: Persons seeking access to CEII.

Estimate of Annual Burden: ⁶ The Commission estimates the total annual burden and cost ⁷ for this information collection as follows.

⁶ “Burden” is the total time, effort, or financial resources expended by persons to generate, maintain, retain, or disclose or provide information to or for a Federal agency. For further explanation of what is included in the information collection burden, refer to Title 5 Code of Federal Regulations 1320.3.

⁷ The Commission staff thinks that the average respondent for this collection is similarly situated to the Commission, in terms of salary plus benefits. Based upon FERC's 2016 annual average of $154,647 (for salary plus benefits), the average hourly cost is $74.50/hour.

FERC-603—Critical Energy/Electric Infrastructure Information Request
Number of respondents | Annual number of responses per respondent | Total number of responses | Average burden and cost per response | Total annual burden hours and total annual cost | Cost per respondent ($)
(1) | (2) | (1)*(2)=(3) | (4) | (3)*(4)=(5) | (5)÷(1)
200 | 1 | 200 | 0.3 hrs.; $22.35 | 60 hrs.; $4,470 | $22.35

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 23, 2017.
Kimberly D. Bose,
Secretary.

[FR Doc. 2017-01909 Filed 1-27-17; 8:45 am]

BILLING CODE 6717-01-P